DEPARTMENT OF HOMELAND SECURITY

Coast Guard

33 CFR Part 117

[CGD05-04-041]

RIN 1625-AA-09

Drawbridge Operation Regulations; Albemarle and Chesapeake Canal, AICW, Virginia

AGENCY: Coast Guard, DHS.

ACTION: Notice of temporary deviation from regulations.

SUMMARY: The Commander, Fifth Coast Guard District, has approved a temporary deviation from the regulations governing the operation of the new S168 (Great Bridge) lift-span bridge across the Albemarle and Chesapeake Canal, Atlantic Intracoastal Waterway (AICW) mile 12.0, at Chesapeake, Virginia to allow the bridge owner to conduct the demolition of the existing S168 (Great Bridge) swing-span bridge. The work will be performed on a three-day closure period to navigation.

DATES: This deviation is effective from 7 a.m. on March 3, 2004, to 7 a.m. on March 7, 2004.

FOR FURTHER INFORMATION CONTACT: Bill Brazier, Bridge Management Specialist, Fifth Coast Guard District, at (757) 398-6422.

SUPPLEMENTARY INFORMATION: Tidewater Skanska Corporation (TSC), on behalf of the bridge owner (U.S. Army Corps of Engineers), has requested a temporary deviation from the current operating regulation set out in 33 CFR 117.997(g) which requires the drawbridge to open on signal, except that, from 6 a.m. to 7 p.m., the draw need be opened only on the hour. If any vessel is approaching the bridge and cannot reach the draw exactly on the hour, the draw tender may delay the hourly opening up to 10 minutes past the hour for the passage of the approaching vessel and any other vessels that are waiting to pass. Vessels in an emergency condition, which presents danger to life or property, shall be passed at any time. TSC has requested the temporary deviation to close the new S168 (Great Bridge) lift-span bridge to navigation to demolish the existing S168 (Great Bridge) swing-span bridge.

The work involves the removal and disposal of the existing swing spans and turntable piers associated with the existing S168 (Great Bridge) swing-span bridge. To facilitate this work, the new S168 (Great Bridge) lift-span bridge will be locked in the closed-to-navigation position on a three-day closure period from 7 a.m. to 7 a.m., from March 3-7, 2004. During this period, the work requires completely immobilizing the operation of the lift span in the closed-to-navigation position. At all other times, the new bridge will operate in accordance with the current operating regulations outlined in 33 CFR 117.997(g). Calling the project superintendent at (757) 672-4829 will provide for emergency opening requests.

The Coast Guard has informed the known users of the waterway of the closure periods for the bridge so that these vessels can arrange their transits to minimize any impact caused by the temporary deviation.

The District Commander has granted temporary deviation from the operating requirements listed in 33 CFR 117.35 for the purpose of repair completion of the drawbridge. The temporary deviation allows the S168 (Great Bridge) lift-span bridge across the Albemarle and Chesapeake Canal, AICW, mile 12.0, at Chesapeake, Virginia, to remain closed to navigation on a three-day closure period from March 3-7, 2004, from 7 a.m. to 7 a.m.

Dated: March 1, 2004.
Waverly W. Gregory, Jr.,
Chief, Bridge Administration Branch, Fifth Coast Guard District.

[FR Doc. 04-5099 Filed 3-5-04; 8:45 am]

BILLING CODE 4910-15-P